DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of postponement of scheduled program evaluation.

SUMMARY: The NOAA Office of Ocean and Coastal Resource Management (OCRM) announces the postponement of the previously scheduled Coastal Zone Management Act program evaluation of the U.S. Virgin Islands Coastal Management Program.

DATE AND TIME POSTPONEMENT: Notice was previously given in the Federal Register on February 27, 2007, that the Virgin Islands Coastal Management Program evaluation site visit was scheduled for June 25-29, 2007. Three public meetings were scheduled during the week. The evaluation site visit has been postponed to a date yet to be determined. The public meetings will also be rescheduled after the site visit is rescheduled. Notice will be given in the Federal Register when the site visit and public meeting dates have been established.

FOR FURTHER INFORMATION CONTACT: Ralph Cantral, Chief, National Policy and Evaluation Division, Office of Ocean and Coastal Resource Management, NOS/NOAA, 1305 East-West Highway, 10th Floor, N/ORM7, Silver Spring, Maryland 20910, (301) 563-7118.

Federal Domestic Assistance Catalog: 11.419.
Coastal Zone Management Program Administration.
Dated: March 30, 2007.
David M. Kennedy,
Director, Office of Ocean and Coastal Resource Management, National Ocean Service, National Oceanic and Atmospheric Administration.

[FR Doc. E7-6355 Filed 4-4-07; 8:45 am]

BILLING CODE 3510-08-P